ENVIRONMENTAL PROTECTION AGENCY

40 CFR Part 52

[EPA-R05-OAR-2012-0453; FRL-9904-35-Region 5]

Approval and Promulgation of Air Quality Implementation Plans; Indiana; Volatile Organic Compound Emission Control Measures for Industrial Solvent Cleaning for Northwest Indiana

AGENCY: Environmental Protection Agency (EPA).

ACTION: Final rule.

SUMMARY: The Environmental Protection Agency (EPA) is approving a request from the Indiana Department of Environmental Management to revise its volatile organic compound state implementation plan (SIP) for industrial solvent cleaning rule for manufacturers of coatings, inks, adhesives, and resins. These revisions are approvable because they are consistent with EPA's Industrial Solvent Cleaning Control Technique Guidelines document and therefore satisfy the reasonable available control technology requirements of the Clean Air Act. EPA proposed to approve these revisions on September 10, 2013, and did not receive any comments.

DATES: This final rule is effective on January 27, 2014.

ADDRESSES: EPA has established a docket for this action under Docket ID No. EPA-R05-OAR-2012-0453. All documents in the docket are listed on the www.regulations.gov Web site. Although listed in the index, some information is not publicly available, i.e., Confidential Business Information (CBI) or other information whose disclosure is restricted by statute. Certain other material, such as copyrighted material, is not placed on the Internet and will be publicly available only in hard copy form. Publicly available docket materials are available either electronically through www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Anthony Maietta, Environmental Protection Specialist, at (312) 353-8777 before visiting the Region 5 office.

FOR FURTHER INFORMATION CONTACT: Anthony Maietta, Environmental Protection Specialist, Air Programs Branch (AR-18J), Environmental Protection Agency, Region 5, 77 West Jackson Boulevard, Chicago, Illinois 60604, (312) 252-8777, maietta.anthony@epa.gov.

SUPPLEMENTARY INFORMATION: Throughout this document whenever “we,” “us,” or “our” is used, we mean EPA. This supplementary information section is arranged as follows:

I. What is the background for the action?

II. What action is EPA taking?

III. Statutory and Executive Order Reviews

I. What is the background for the action?

On September 10, 2013, EPA proposed to approve rule revisions contained in a May 29, 2012, submittal from IDEM into the Federal Register (78 FR 55234). The submittal requested that EPA approve a revision to the Indiana SIP regarding the industrial solvent cleaning rule for manufacturers of coatings, inks, adhesives, and resins. EPA received no comments on the proposed action.

II. What action is EPA taking?

EPA is approving revisions to Title 326, Article 8, Rule 17 of the Indiana Administrative Code (IAC) as submitted to EPA on May 29, 2012. Specifically, EPA is approving revisions to 326 IAC 8-17-2, 326 IAC 8-17-4, and 326 IAC 8-17-7.

III. Statutory and Executive Order Reviews

Under the Clean Air Act, the Administrator is required to approve a SIP submission that complies with the provisions of the Clean Air Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by February 25, 2014. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Reporting and recordkeeping requirements, Volatile organic compounds.

Dated: December 6, 2013.
Susan Hedman,
Regional Administrator, Region 5.

40 CFR part 52 is amended as follows:

PART 52—APPROVAL AND PROMULGATION OF IMPLEMENTATION PLANS

1. The authority citation for part 52 continues to read as follows:

Authority: 42 U.S.C. 7401 et seq.

2. In § 52.770 the table in paragraph (c) is amended by adding a new entry in “Article 8. Volatile Organic Compound Rules” for “Rule 17. Industrial Solvent Cleaning Operations” in numerical order to read as follows:

§ 52.770 Identification of plan.

* * * * *

(c) * * *

EPA-Approved Indiana Regulations
Indiana citation | Subject | Indiana effective date | EPA approval date | Notes
* * * * * * *
Article 8. Volatile Organic Compound Rules
* * * * * * *
Rule 17. Industrial Solvent Cleaning Operations
8-17-1 | Applicability | 1/2/2010 | 2/24/2010, 75 FR 8246 |
8-17-2 | Exemptions | 5/3/2012 | 12/27/2013, [INSERT PAGE NUMBER WHERE THE DOCUMENT BEGINS] |
8-17-3 | “Composite partial vapor pressure” defined | 1/2/2010 | 2/24/2010, 75 FR 8246 |
8-17-4 | VOC emissions control requirements | 5/3/2012 | 12/27/2013, [INSERT PAGE NUMBER WHERE THE DOCUMENT BEGINS] |
8-17-5 | Compliance dates | 1/2/2010 | 2/24/2010, 75 FR 8246 |
8-17-6 | Compliance test methods | 1/2/2010 | 2/24/2010, 75 FR 8246 |
8-17-7 | Monitoring and recordkeeping | 5/3/2012 | 12/27/2013, [INSERT PAGE NUMBER WHERE THE DOCUMENT BEGINS] |
8-17-8 | Reporting requirements for monitoring and recordkeeping information | 1/2/2010 | 2/24/2010, 75 FR 8246 |
8-17-9 | Requirements on compliance certification | 1/2/2010 | 2/24/2010, 75 FR 8246 |
8-17-10 | Recordkeeping requirements for exempt sources | 1/2/2010 | 2/24/2010, 75 FR 8246 |
* * * * * * *

[FR Doc. 2013-30543 Filed 12-26-13; 8:45 am]

BILLING CODE 6560-50-P